DEPARTMENT OF AGRICULTURE

Forest Service

Tonto National Forest; Gila County, AZ; Pinto Valley Mine Environmental Impact Statement

AGENCY: Forest Service, USDA.

ACTION: Notice of intent to prepare an environmental impact statement for approval of a mining plan of operations for the Pinto Valley Mine, notice of public scoping, and request for scoping comments.

SUMMARY: The Tonto National Forest (TNF) is preparing an Environmental Impact Statement (EIS) to evaluate and disclose the potential environmental effects from approval of the Mining Plan of Operations (MPO) submitted by Pinto Valley Mining Corp. (PVMC), for operations on National Forest System (NFS) land associated with expansion of an existing open pit copper and molybdenum mine, the Pinto Valley Mine. An amendment to the Tonto National Forest Land and Resource Management Plan (Forest Plan, 1985, as amended) may be required.

DATES: Comments concerning the scope of the analysis must be received no later than April 27, 2017. Public scoping meetings will be held on April 18 at Superior Junior/Senior High School, 100 Mary Drive, Superior, Arizona and April 20 at Miami Junior/Senior High School, 4739 S. Ragus Rd., Miami, Arizona from 5:00 to 8:00 p.m.

ADDRESSES: Send written comments to Pinto Valley Mine EIS Comments, 2324 E McDowell Rd., Phoenix, AZ 85006. Comments may also be sent via email to Comment@pintovalleymineeis.us, or via facsimile to (602) 225-5302, ATTN: Pinto Valley Mine EIS Comments. Written and oral comments may also be submitted during scoping meetings that will be held by the U.S. Forest Service (Forest Service) on April 18 and 20. Additional details may be found at the Pinto Valley Mine EIS Web site at http://www.pintovalleymineeis.us.

FOR FURTHER INFORMATION CONTACT: Judd Sampson, Interim Project Manager, at 602-225-5272 or juddsampson@fs.fed.us during normal business hours. Individuals who use telecommunication devices for the deaf (TDD) may call the Federal Information Relay Service (FIRS) at 1-800-877-8339 between 8 a.m. and 8 p.m., Eastern Time, Monday through Friday.

SUPPLEMENTARY INFORMATION: PVMC submitted the proposed MPO for approval by the Forest Service in May 2016. The proposed MPO was submitted in accordance with Forest Service regulations for locatable minerals set forth at Title 36 of the Code of Federal Regulations (CFR), part 228 (36 CFR part 228), subpart A, Locatable Minerals.

The proposed action would consolidate prior permitted activities reasonably incident to extraction, transportation, and processing of copper and molybdenum on NFS lands and expand existing mining operations from private lands on to NFS lands primarily for tailings disposal and pit expansion.

Purpose and Need for Action

The purpose of this project is to analyze the proposed action as required by the regulations at 36 CFR 228.5(a). Approval of the proposed MPO would be a major federal action subject to National Environmental Policy Act of 1969 (NEPA). Accordingly, the Forest Service must prepare an EIS to identify the scope of issues associated with the MPO, identify and assess reasonable alternatives to the MPO in order to avoid or minimize adverse effects of MPO actions and evaluate and disclose the potential environmental effects. An amendment to the Tonto National Forest Land and Resource Management Plan (Forest Plan, 1985, as amended) may be required.

The need for this project is to comply with the regulations of the Forest Service, Department of Agriculture, that govern the use of surface resources in conjunction with mining operations on NFS lands as set forth under 36 CFR part 228. These regulations require that the Forest Service respond to parties who submit proposed mining plans for approval to conduct mining operations on or otherwise use NFS lands in conjunction with mining for part or all of their planned actions. In accordance with regulations at 36 CFR 228.5, the submittal of the proposed MPO by PVMC requires the Forest Service to consider whether to approve the proposed MPO or to require changes or additions deemed necessary to meet the purpose of the regulations for locatable mineral operations at 36 CFR part 228, subpart A. Forest Service cannot categorically prohibit mining operations that are reasonably incident to mining of locatable minerals on NFS lands in the area of the proposed action.

Proposed Action

The proposed action is to approve the MPO as submitted by PVMC. Pinto Valley Mine expansion would affect federal lands administered by TNF and private lands owned by PVMC. The proposed action by the Forest Service would only approve mining operations on NFS lands, since the Forest Service does not have jurisdiction to regulate mining operations that occur on private land. However, the EIS will consider and disclose environmental effects associated with the MPO. Connected actions related to the MPO and potential amendment of the forest plan, if required, would be analyzed in the EIS. Impacts from past, present, and reasonably foreseeable future actions will be considered in combination with impacts of the proposed project to estimate potential cumulative impacts.

Existing and Proposed Mining Operations

Pinto Valley Mine is an existing open pit copper and molybdenum mine with adjacent milling and processing operations, tailings disposal areas, and waste rock disposal, all operated by PVMC. The majority of Pinto Valley Mine is located on PVMC property. However, certain facilities and operations are located on TNF, and were authorized by the Forest Service or the U.S. Department of Interior, Bureau of Land Management (BLM) through Rights-of-Way, Plans of Operations, Special Use Permits, and a Letter Agreement. The authorizations date from as early as the 1940s, and have been amended, updated, and re-authorized over the years.

Existing surface disturbance associated with the Pinto Valley Mine currently encompasses an estimated 3,845 acres, of which 3,389 acres are on private and 456 acres are on NFS lands. The proposed disturbance acreage would be an additional 1,011 acres of surface disturbance (766 acres on private land, 245 acres on NFS lands) for a total estimated surface disturbance of 4,856 acres (4,155 on private land, 701 acres on NFS lands).

Each of the past, present, and proposed future uses of NFS lands is addressed in the MPO. Existing or proposed mining use of NFS lands includes portions of the Open Pit, 19 Dump, portions of three tailings storage facilities, transportation on Forest Roads and temporary access roads, use of existing powerlines and water pipelines, existing water supply, stormwater management facilities, and a sign.

In summary, at the end of the current planned life of the mine, PVMC would use approximately 701 acres of NFS lands and 42.45 miles of Forest Roads and temporary access roads to access mine facilities and/or as alignments for linear utility infrastructure.

Possible Alternatives

The Pinto Valley Mine EIS will analyze the No Action Alternative, which would not approve of the proposed MPO. For the No Action Alternative, mining operations, reclamation, and closure would continue under current authorizations. The responsible official does not have discretion to select the No Action alternative, because it would not be consistent with requirements of 36 CFR 228.5.

The EIS may evaluate additional alternatives that could include application of design features and other measures that address issues identified during scoping, that would meet the purpose and need for the project, and are reasonable and practicable. These alternatives may require changes to the proposed MPO, which are necessary to meet Forest Service regulations for locatable minerals set forth at 36 CFR part 228, subpart A.

Lead and Cooperating Agencies

The Forest Service will be the lead agency preparing the EIS. Cooperating agencies have not yet been confirmed, but may include agencies within the Department of the Interior, as well as other state and Federal agencies with regulatory and/or enforcement jurisdiction over the project.

Responsible Official

The Forest Supervisor of the TNF will be the responsible official who prepares the Record of Decision (ROD) and approves the MPO.

Nature of Decision To Be Made

TNF Forest Supervisor will consider beneficial and adverse impacts of each alternative analyzed in the EIS. TNF Forest Supervisor has discretion to determine whether changes in the proposed MPO will be required prior to approval.

Plan of Operations

Using the analysis in the EIS and supporting documentation, the TNF Forest Supervisor will make the following decisions regarding the proposed MPO:

1. Decide whether to approve the proposed MPO submitted by PVMC, or require changes in, or additions to, the proposed MPO to meet the purpose of the regulations, including those for environmental protection and reclamation set forth at 36 CFR part 228, subpart A before approving a final MPO. The alternative that is selected for approval in the final MPO must minimize adverse impacts on NFS surface resources where feasible.

2. If Forest Service determines that any amendment(s) is (are) required to the Forest Plan, then decide whether to approve amendments to the Forest Plan, which would be necessary to approve the final MPO.

Final EIS and Record of Decision

The Forest Supervisor plans to release a draft ROD in conjunction with the final EIS. The draft ROD would address the decision on approval of the MPO. The decision would be subject to 36 CFR part 218, Project-Level Pre-decisional Administrative Review Process. If forest plan amendments are required, then the draft decision may also be subject to 36 CFR part 219, subpart B, Pre-decisional Administrative Review Process.

Following resolution of objections to the draft ROD, a final ROD would be issued. PVMC would have an opportunity to appeal the decision as set forth at 36 CFR part 214, Postdecisional Administrative Review Process for Occupancy or Use of National Forest System Lands and Resources.

Prior to approval of the MPO, PVMC may be required to modify the proposed MPO to align it with the description of the selected alternative in the final ROD. In addition, the TNF Forest Supervisor would require PVMC to submit a reclamation bond or other acceptable financial assurance to ensure that NFS lands and resources involved with the mining operation are reclaimed in accordance with the approved MPO and Forest Service requirements for environmental protection (36 CFR 228.8 and 228.13). After the Forest Service has determined that the MPO conforms to the ROD and that the reclamation bond is acceptable, the TNF Forest Supervisor would approve the MPO. Implementation of mining operations that affect NFS lands and resources may not commence until the MPO is approved and the reclamation bond or other financial assurance is in place.

Preliminary Issues

Issues to be analyzed in the EIS will be developed during the scoping process. Preliminary issues expected to be analyzed include potential impacts to: Groundwater and surface water quantity and quality; riparian and aquatic areas and springs; biological resources, including threatened and endangered species and Forest Service sensitive species; historical and cultural resources; air quality; socioeconomics; transportation and traffic; noise; visual resources; and recreation. This list is subject to change based on comments received from the public and resource agencies.

Permits or Licenses Required

The following is a list of permits for Pinto Valley Mine: Permits associated with groundwater withdrawal and dam safety permits (Arizona Department of Water Resources); air quality Class II synthetic minor permit (Arizona Department of Environmental Quality), Arizona Pollutant Discharge Elimination System process and stormwater permits, Aquifer Protection Permit, and public water supply permit (Arizona Department of Environmental Quality); Mined Land Reclamation Plan (Arizona State Mine Inspector); letter agreement for a commercial vehicle staging area (Arizona Department of Transportation); and other required permits. Because the Pinto Valley Mine is an operating mine, PVMC already holds required permits. PVMC would update and amend permits for additional activities proposed in the MPO, as required.

Scoping Process

This notice of intent initiates the scoping process, which guides the development of the Pinto Valley Mine EIS. Public comments may be submitted to TNF in a variety of ways, including: By email, via the project Web site, by mail, and by facsimile. In addition, TNF will conduct two open houses during the scoping process through which members of the public can learn about the proposed action and the NEPA review process, and submit comments. Comments sought by TNF include specific comments related to the proposed action, appropriate information that could be pertinent to the description of baseline resource conditions and analysis of environmental effects, identification of significant issues, identification of reasonably foreseeable actions that should be considered in the cumulative analysis, and identification of potential design features and alternatives.

Written comments may be sent to: Pinto Valley Mine EIS Comments, 2324 E McDowell Rd., Phoenix, AZ 85006. Comments may also be sent by email to: Comment@pintovalleymineeis.us, or sent by facsimile to (602) 225-5302.

It is important that reviewers provide comments at such times and in such manner that they are useful to the agency's preparation of the environmental impact statement. Therefore, comments should be provided prior to the close of the comment period and should clearly articulate the reviewer's concerns and contentions and specific recommendations wherever possible. When submitting comments, please keep them specific to this proposal only. Comments which are not specific to the project and project area will be deemed outside the scope of the analysis and will not be considered. If you are including references, citations, or additional information to be considered for this project, please provide a copy and specify exactly how the material relates to the project. Also indicate exactly what part of the material you would like us to consider (such as page or figure number). Comments received in response to this solicitation, including names and addresses of those who comment, will be part of the public record for this proposed action. Comments submitted anonymously will be accepted and considered; however, anonymous comments will not provide the agency with the ability to provide the respondent with subsequent environmental documents.

Dated: March 21, 2017.
Jeanne M. Higgins,
Associate Deputy Chief, National Forest System.

[FR Doc. 2017-06020 Filed 3-27-17; 8:45 am]

BILLING CODE 3411-15-P